DEPARTMENT OF HEALTH AND HUMAN SERVICES

National Institutes of Health

Office of Biotechnology Activities, Office of the Director; Notice of Meeting

Pursuant to section 10(a) of the Federal Advisory Committee Act, as amended (5 U.S.C. Appendix 2), notice is hereby given of the inaugural meeting of the National Science Advisory Board for Biosecurity (NSABB).

Under authority 42 U.S.C. 217a, section 222 of the Public Health Service Act, as amended, the Department of Health and Human Services established NSABB to provide advice, guidance and leadership regarding federal oversight of usual-use research, defined as biological research with legitimate scientific purposes that could be misused to pose a biological threat to public health and/or national security.

The meeting will be open to the public as indicated below. Pre-registration is recommended due to space limitations. Persons planning to attend should register online at http://www.biosecurityboard.gov/meeting.asp or by calling The Hill Group (Heather Thompson) at 301-897-2789, ext. 132. Individuals who plan to attend and need special assistance, such as sign language interpretation or other reasonable accommodations, should indicate these requirements upon registration.

Name of Committee: National Science Advisory Board for Biosecurity.

Date: June 30-July 1, 2005.

Open: 8 a.m. to 3 p.m.

Agenda: (1) Presentation and discussions on criteria for defining dual-use research in the life sciences and the role of a code of conduct for the life sciences; (2) discuss issues raised by dual-use research with respect to scientific communication, genome synthesis, and international perspectives; (3) public comments; (4) and other business of the committee.

Place: Hyatt Regency Bethesda, 7400 Wisconsin Avenue, Bethesda, Maryland.

Contact Person: Thomas Holohan, M.D., NSABB Executive Director, 6705 Rockledge Drive, Bethesda, Maryland 20892. (301) 496-9838.

This meeting will also be webcast. The draft meeting agenda and other information about NSABB, including information about access to the webcast and pre-registration, will be available at http://www.biosecurityboard.gov.

Any member of the public interested in presenting oral comments at the meeting may notify the Contact Person listed on this notice at least 10 days in advance of the meeting. Interested individuals and representatives of an organization may submit a letter of intent, a brief description of the organization represented and a short description of the oral presentation. Only one representative of an organization may be allowed to present oral comments if accepted by the committee. Both printed and electronic copies are requested for the record. In addition, any interested person may file written comments with the committee. All written comments must be received by June 17, 2005 and should be sent via e-mail to nsabb@od.nih.gov with “NSABB Public Comment” as the subject line or by regular mail to 6705 Rockledge Drive, Suite 750, Bethesda, MD 20892, Attention Dr. Ansalan Stewart. The statement should include the name, address, telephone number and, when applicable, the business or professional affiliation of the interested person.

Dated: May 18, 2005.
LaVerne Y. Stringfield,
Director, Office of Federal Advisory Committee Policy.

[FR Doc. 05-10533 Filed 5-25-05; 8:45 am]

BILLING CODE 4140-01-M